DEPARTMENT OF COMMERCE

National Oceanic and Atmospheric Administration

[I.D. 083000B]

RIN 0648-AN92

Notice of the Continuing Effect of the List of Fisheries

AGENCY: National Marine Fisheries Service (NMFS), National Oceanic and Atmospheric Administration (NOAA), Commerce.

ACTION: Notice of the list of fisheries for 2002.

SUMMARY: The National Marine Fisheries Service is providing notification that the 2001 List of Fisheries (LOF) remains in effect for 2002. Under the Marine Mammal Protection Act (MMPA), NMFS must place a commercial fishery on the LOF under one of three categories, based upon the level of serious injury and mortality of marine mammals that occur incidental to that fishery. The categorization of a fishery in the LOF determines whether participants in that fishery are subject to certain provisions of the MMPA, such as registration, observer coverage, and take reduction plan requirements.

ADDRESSES: Registration information, materials, and marine mammal reporting forms may be obtained from the following regional offices:

NMFS, Northeast Region, One Blackburn Drive, Gloucester, MA 01930-2298, Attn: Sandra Arvilla.

NMFS, Southeast Region, 9721 Executive Center Drive North, St. Petersburg, FL 33702, Attn: Teletha Griffin.

NMFS, Southwest Region, Protected Species Management Division, 501 W. Ocean Blvd., Suite 4200, Long Beach, CA 90802-4213, Attn: Don Peterson.

NMFS, Northwest Region, 7600 Sand Point Way NE, Seattle, WA 98115, Attn: Permits Office.

NMFS, Alaska Region, Protected Resources, P.O. Box 22668, 709 West 9th Street, Juneau, AK 99802.

FOR FURTHER INFORMATION CONTACT: Emily Menashes, Office of Protected Resources, 301-713-2322 ext. 101; Kim Thounhurst, Northeast Region, 978-281-9138; Katie Moore, Southeast Region, 727-570-5312; Tim Price, Southwest Region, 562-980-4029; Brent Norberg, Northwest Region, 206-526-6733; Amy Van Atten, Alaska Region, 907-586-7642. Individuals who use a telecommunications device for the deaf may call the Federal Information Relay Service at 1-800-877-8339 between 8 a.m. and 4 p.m. Eastern time, Monday through Friday, excluding Federal holidays.

SUPPLEMENTARY INFORMATION:

Electronic Access

The 2001 List of Fisheries is accessible by the Internet at http://www.nmfs.noaa.gov/prot_res/PR2/Fisheries_Interactions/list_of_fisheries.html.

Background

This notice provides that the 2001 LOF published in August 15, 2001 (66 FR 42788) remains in effect for 2002 with no changes. NMFS intends to propose changes to the LOF for 2003, which is scheduled to publish as a proposed rule and be available for public comment in the summer of 2002.

What Is the List of Fisheries?

Under section 118 of the MMPA, NMFS must publish, at least annually, a LOF that places all U.S. commercial fisheries into one of three categories based on the level of incidental serious injury and mortality of marine mammals that occurs in each fishery. The categorization of a fishery in the LOF determines whether participants in that fishery may be required to comply with certain provisions of the MMPA, such as registration, observer coverage, and take reduction plan requirements.

How Does NMFS Determine In Which Category a Fishery is Placed?

The definitions for the fishery classification criteria can be found in the implementing regulations for section 118 of the MMPA (50 CFR part 229). In addition, these definitions are summarized in the preambles to the final rule implementing section 118 (60 FR 45086, August 30, 1995), the final LOF for 1996 (60 FR 67063, December 28, 1995), and the proposed LOF for 2001 (66 FR 6545, January 22, 2001).

How Do I Find Out if a Specific Fishery is in Category I, II, or III?

This document includes two tables that list all U.S. commercial fisheries by LOF Category. Table 1 lists all of the fisheries in the Pacific Ocean (including Alaska). Table 2 lists all of the fisheries in the Atlantic Ocean, Gulf of Mexico, and Caribbean.

Am I Required to Register Under the MMPA?

Owners of vessels or gear engaging in a Category I or II fishery are required under 50 CFR 229.4 to register with NMFS and obtain a marine mammal authorization from NMFS in order to lawfully incidentally take a marine mammal in a commercial fishery. Owners of vessels or gear engaged in a Category III fishery are not required to register with NMFS or obtain a marine mammal authorization.

How Do I Register?

You must register through NMFS’ Regional Offices (see ADDRESSES) unless you participate in a fishery that has an integrated registration program. Upon receipt of a completed registration, NMFS will issue vessel or gear owners a decal or other physical evidence of a current and valid registration that must be displayed or that must be in the possession of the master of each vessel while fishing (MMPA Section 118(c)(3)(A)).

For some fisheries, NMFS has integrated the MMPA registration process with existing state and Federal fishery license, registration, or permit systems and related programs. Participants in these fisheries are automatically registered under the MMPA and are not required to pay the $25 registration fee.

Which Fisheries Have Integrated Registration Programs?

The following fisheries have integrated registration programs under the MMPA: all Alaska Category II fisheries; all Washington and Oregon Category II fisheries; the Gulf of Maine/U.S. Mid-Atlantic lobster trap/pot fishery; the Federal portion of the Northeast sink gillnet fishery; and, the Federal portion of the Atlantic squid, mackerel, butterfish trawl fishery. Special procedures and instructions for registration in these integrated fisheries are described in the preamble to the final LOF for 1998 (63 FR 5748, February 4, 1998).

How Do I Renew My Registration Under the MMPA?

The Regional Offices annually send renewal packets to participants in Category I or II fisheries that have previously registered; however, it is your responsibility to ensure that registration or renewal forms are submitted to NMFS at least 30 days in advance of fishing. If you have not received a renewal packet by January 1 or are registering for the first time, request a registration form from the appropriate Regional Office (see ADDRESSES).

Am I Required to Submit Reports When I Injure or Kill a Marine Mammal During the Course of Commercial Fishing Operations?

Any vessel owner or operator, or fisher (in the case of non-vessel fisheries), participating in a Category I, II, or III fishery must comply with 50 CFR 229.6 and report all incidental injuries or mortalities of marine mammals that occur during commercial fishing operations to NMFS. “Injury” is defined in 50 CFR 229.2 as a wound or other physical harm. In addition, any animal that ingests fishing gear or any animal that is released with fishing gear entangling, trailing, or perforating any part of the body is considered injured and must be reported. Instructions on how to submit reports can be found in 50 CFR 229.6.

Am I Required to Take an Observer Aboard My Vessel?

Fishers participating in a Category I or II fishery are required to accommodate an observer aboard your vessel(s) upon request. Observer requirements can be found in 50 CFR 229.7.

Am I Required to Comply With Any Take Reduction Plan Regulations?

Fishers participating in a Category I or II fishery are required to comply with any applicable take reduction plans. NMFS may develop and implement take reduction plans for any Category I or II fishery that interacts with a strategic stock. 50 CFR part 229, subpart C provides take reduction plan regulations.

List of Fisheries

The following two tables list U.S. commercial fisheries according to their assigned categories under section 118 of the MMPA. The estimated number of vessels/participants is expressed in terms of the number of active participants in the fishery, when possible. If this information is not available, the estimated number of vessels or persons licensed for a particular fishery is provided. If no recent information is available on the number of participants in a fishery, the number from the 1996 LOF is used.

The tables also list the marine mammal species and stocks that are incidentally killed or injured in each fishery based on observer data, logbook data, stranding reports, and fishers’ reports. This list includes all species or stocks known to incur injury or mortality in a given fishery. However, not all species or stocks identified are necessarily independently responsible for a fishery’s categorization. There are a few fisheries that are in Category II that have no recently documented interactions with marine mammals. Justifications for placement of these fisheries are by analogy to other gear types that are known to injure or kill marine mammals, as discussed in the final LOF for 1996.

Commercial fisheries in the Pacific Ocean (including Alaska) are included in Table 1; commercial fisheries in the Atlantic Ocean, Gulf of Mexico, and Caribbean are included in Table 2. An asterisk (*) indicates that the stock is a strategic stock; a plus (+) indicates that the stock is listed as threatened or endangered under the Endangered Species Act.

Table 1—List of Fisheries Commercial Fisheries in the Pacific Ocean
Fishery Description | Estimated no. of vessels/ persons | Marine mammal species and stocks incidentally killed/injured
Category I
GILLNET FISHERIES: |  |
CA angel shark/halibut and other species large mesh (>3.5in) set gillnet | 58 | Harbor porpoise, central CA Common dolphin, short-beaked, CA/OR/WA Common dolphin, long-beaked CA California sea lion, U.S. Harbor seal, CA Northern elephant seal, CA breeding Sea otter, CA
CA/OR thresher shark/swordfish drift gillnet | 130 | Steller sea lion, Eastern U.S.*+ Sperm whale, CA/OR/WA*+ Dall's porpoise, CA/OR/WA Pacific white sided dolphin, CA/OR/WA Risso's dolphin, CA/OR/WA Bottlenose dolphin, CA/OR/WA offshore Short-beaked common dolphin CA/OR/WA Long-beaked common dolphin CA/OR/WA Northern right whale dolphin, CA/OR/WA Short-finned pilot whale, CA/OR/WA* Baird's beaked whale, CA/OR/WA Mesoplodont beaked whale, CA/OR/WA Cuvier's beaked whale, CA/OR/WA Pygmy sperm whale, CA/OR/WA California sea lion, U.S. Northern elephant seal, CA breeding Humpback whale, CA/OR/WA-Mexico* Minke whale, CA/OR/WA Striped dolphin, CA/OR/WA Killer whale, CA/OR/WA Pacific coast Northern fur seal, San Miguel Island
Category II
GILLNET FISHERIES: |  |
AK Bristol Bay salmon drift gillnet | 1,903 | Steller sea lion, Western U.S.*+ Northern fur seal, Eastern Pacific* Harbor seal, Bering Sea Beluga whale, Bristol Bay Gray whale, Eastern north Pacific Spotted seal, AK Pacific white-sided dolphin, North Pacific
AK Bristol Bay salmon set gillnet | 1,014 | Harbor seal, Bering Sea Beluga whale, Bristol Bay Gray whale, Eastern North Pacific Northern fur seal, Eastern Pacific* Spotted seal, AK
AK Cook Inlet salmon drift gillnet | 576 | Steller sea lion, Western U.S.*+ Harbor seal, GOA Harbor porpoise, GOA Dall's porpoise, AK Beluga whale, Cook Inlet*+
AK Cook Inlet salmon set gillnet | 745 | Steller sea lion, Western U.S.*+ Harbor seal, GOA Harbor porpoise, GOA Dall’s porpoise, AK Beluga whale, Cook Inlet*+
AK Kodiak salmon set gillnet | 188 | Harbor seal, GOA Harbor porpoise, GOA Sea otter, AK
AK Metlakatla/Annette Island salmon drift gillnet | 60 | None documented
AK Peninsula/Aleutian Islands salmon drift gillnet | 164 | Northern fur seal, Eastern Pacific* Harbor seal, GOA Harbor porpoise, Bering Sea Dall's porpoise, AK
AK Peninsula/Aleutian Islands salmon set gillnet | 116 | Steller sea lion, Western U.S.*+ Harbor porpoise, Bering Sea
AK Prince William Sound salmon drift gillnet | 541 | Steller sea lion, Western U.S.*+ Northern fur seal, Eastern Pacific* Harbor seal, GOA Pacific white-sided dolphin, North Pacific Harbor porpoise, GOA Dall's porpoise, AK Sea Otter, AK
AK Southeast salmon drift gillnet | 481 | Steller sea lion, Eastern U.S.*+ Harbor seal, Southeast AK Pacific white-sided dolphin, North Pacific Harbor porpoise, Southeast AK Dall's porpoise, AK Humpback whale, central North Pacific*+
AK Yakutat salmon set gillnet | 170 | Harbor seal, Southeast AK Gray whale, Eastern North Pacific
WA Puget Sound Region salmon drift gillnet (includes all inland waters south of US-Canada border and eastward of the Bonilla-Tatoosh line treaty Indian fishing is excluded) | 725 | Harbor porpoise, inland WA Dall's porpoise, CA/OR/WA Harbor seal, WA inland
PURSE SEINE FISHERIES:
AK Southeast salmon purse seine | 416 | Humpback whale, central North Pacific*+
CA anchovy, mackerel, tuna purse seine | 150 | Bottlenose dolphin, CA/OR/WA offshore California sea lion, U.S. Harbor seal, CA
CA squid purse seine | 65 | Short-finned pilot whale, CA/OR/WA*
TRAWL FISHERIES: |  |
AK miscellaneous finfish pair trawl | 2 | None documented
LONGLINE FISHERIES: |  |
California longline | 45 | California sea lion
OR swordfish floating longline | 2 | None documented
OR blue shark floating longline | 1 | None documented
Category III
GILLNET FISHERIES: |  |
AK Kuskokwim, Yukon, Norton Sound, Kotzebue salmon gillnet | 1,922 | Harbor porpoise, Bering Sea
AK miscellaneous finfish set gillnet | 3 | Steller sea lion, Western U.S.*+
AK Prince William Sound salmon set gillnet | 30 | Steller sea lion, Western U.S.*+ Harbor seal, GOA
AK roe herring and food/bait herring gillnet | 2,034 | None documented
CA set and drift gillnet fisheries that use a stretched mesh size of 3.5 in or less | 341 | None documented
Hawaii gillnet | 115 | Bottlenose dolphin, HI Spinner dolphin, HI
WA Grays Harbor salmon drift gillnet (excluding treaty Tribal fishing) | 24 | Harbor seal, OR/WA coast
WA, OR herring, smelt, shad, sturgeon, bottom fish, mullet, perch, rockfish gillnet | 913 | None documented
WA, OR lower Columbia River (includes tributaries) drift gillnet | 110 | California sea lion, U.S. Harbor seal, OR/WA coast
WA Willapa Bay drift gillnet | 82 | Harbor seal, OR/WA coast Northern elephant seal, CA breeding
PURSE SEINE, BEACH SEINE, ROUND HAUL AND THROW NET FISHERIES: |  |
AK Metlakatla salmon purse seine | 10 | None documented
AK miscellaneous finfish beach seine | 1 | None documented
AK miscellaneous finfish purse seine | 3 | None documented
AK octopus/squid purse seine | 2 | None documented
AK roe herring and food/bait herring beach seine | 8 | None documented
AK roe herring and food/bait herring purse seine | 624 | None documented
AK salmon beach seine | 34 | None documented
AK salmon purse seine (except Southeast Alaska, which is in Category II) | 953 | Harbor seal, GOA
CA herring purse seine | 100 | Bottlenose dolphin, CA coastal California sea lion, U.S. Harbor seal, CA
CA sardine purse seine | 120 | None documented
HI opelu/akule net | 16 | None documented
HI purse seine | 18 | None documented
HI throw net, cast net | 47 | None documented
WA (all species) beach seine or drag seine | 235 | None documented
WA, OR herring, smelt, squid purse seine or lampara | 130 | None documented
WA salmon purse seine | 440 | None documented
WA salmon reef net | 53 | None documented
DIP NET FISHERIES: |  |
CA squid dip net | 115 | None documented
WA, OR smelt, herring dip net | 119 | None documented
MARINE AQUACULTURE FISHERIES: |  |
CA salmon enhancement rearing pen | >1 | None documented
OR salmon ranch | 1 | None documented
WA, OR salmon net pens | 14 | California sea lion, U.S. Harbor seal, WA inland waters
TROLL FISHERIES: |  |
AK north Pacific halibut, AK bottom fish, WA, OR, CA albacore, groundfish, bottom fish, CA halibut non-salmonid troll fisheries | 1,530 (330 AK) | None documented
AK salmon troll | 2,335 | Steller sea lion, Western U.S.*+ Steller sea lion, Eastern U.S.*+
American Samoa tuna troll | <50 | None documented
CA/OR/WA salmon troll | 4,300 | None documented
Commonwealth of the Northern Mariana Islands tuna troll | 50 | None documented
Guam tuna troll | 50 | None documented
HI net unclassified | 106 | None documented
HI trolling, rod and reel | 1,795 | None documented
LONGLINE/SET LINE FISHERIES: |  | HI trolling, rod and reel
AK Bering Sea, Aleutian Islands groundfish longline/set line (federally regulated waters, including miscellaneous finfish and sablefish) | 115 | Northern elephant seal, CA breeding Killer whale, Eastern North Pacific resident Killer whale, transient Steller sea lion, Western U.S.*+ Pacific white-sided dolphin, North Pacific Dall’s porpoise, AK Harbor seal, Bering Sea
AK Gulf of Alaska groundfish longline/set line (federally regulated waters, including miscellaneous finfish and sablefish) | 876 | Steller sea lion, Western U.S.*+ Harbor seal, Southeast AK Northern elephant seal, CA breeding
AK halibut longline/set line (State and Federal waters) | 3,079 | Steller sea lion, Western U.S.*+
AK octopus/squid longline | 7 | None documented
AK state-managed waters groundfish longline/setline (including sablefish, rockfish, and miscellaneous finfish) | 731 | None documented
CA shark/bonito longline/set line | 10 | None documented
HI swordfish, tuna, billfish, mahi mahi, wahoo, oceanic sharks longline/set line | 140 | Humpback whale, Central North Pacific*+ False killer whales, HI Risso's dolphin, HI Bottlenose dolphin, HI Spinner dolphin, HI Short-finned pilot whale, HI Sperm whale, HI
WA, OR, CA groundfish, bottomfish longline/set line | 367 | None documented
WA, OR North Pacific halibut longline/set line | 350 | None documented
TRAWL FISHERIES: |  |
AK Bering Sea and Aleutian Islands Groundfish Trawl | 166 | Steller sea lion, Western U.S.*+ Northern fur seal, Eastern pacific* Killer whale, Eastern North Pacific resident Killer whale, Eastern North Pacific transient Pacific white sided dolphin, North Pacific Harbor porpoise, Bering Sea Harbor seal, Bering Sea Harbor seal, GOA Bearded seal, AK Ringed seal, AK Spotted seal, AK Dall’s porpoise, AK Ribbon seal, AK Northern elephant seal, CA breeding Sea otter, AK Pacific walrus, AK Humpback whale, Central North Pacific*+ Humpback whale, Western North Pacific*+
AK food/bait herring trawl | 3 | None documented
AK Gulf of Alaska groundfish trawl | 198 | Steller sea lion, Western U.S.*+ Northern fur seal, Eastern Pacific* Harbor seal, GOA Dall's porpoise, AK Northern elephant seal, CA breeding Fin whale, Northeast Pacific
AK miscellaneous finfish otter or beam trawl | 6 | None documented
AK shrimp otter trawl and beam trawl (statewide and Cook Inlet) | 58 | None documented
AK state-managed waters of Cook Inlet, Kachemak Bay, Prince William Sound, Southeast AK groundfish trawl | 2 | None documented
WA, OR, CA groundfish trawl | 585 | Steller sea lion, Western U.S.*+ Northern fur seal, Eastern Pacific* Pacific white-sided dolphin, central North Pacific Dall's porpoise, CA/OR/WA California sea lion, U.S. Harbor seal, OR/WA coast
WA, OR, CA shrimp trawl | 300 | None documented
POT, RING NET, AND TRAP FISHERIES: |  |
AK Bering Sea, Gulf of Alaska finfish pot | 257 | Harbor seal, GOA Harbor seal, Bering Sea Sea otter, AK
AK crustacean pot | 1,852 | Harbor porpoise, Southeast AK
AK octopus/squid pot | 72 | None documented
AK snail pot | 2 | None documented
CA lobster, prawn, shrimp, rock crab, fish pot | 608 | Sea otter, CA
OR, CA hagfish pot or trap | 25 | None documented
WA, OR, CA crab pot | 1,478 | None documented
WA, OR, CA sablefish pot | 176 | None documented
WA, OR shrimp pot & trap | 254 | None documented
HI crab trap | 22 | None documented
HI fish trap | 19 | None documented
HI lobster trap | 15 | Hawaiian monk seal*+
HI shrimp trap | 5 | None documented
HANDLINE AND JIG FISHERIES: |  |
AK miscellaneous finfish handline and mechanical jig | 100 | None documented
AK North Pacific halibut handline and mechanical jig | 93 | None documented
AK octopus/squid handline | 2 | None documented
American Samoa bottomfish | <50 | None documented
Commonwealth of the Northern Mariana Islands bottomfish | <50 | None documented
Guam bottomfish | <50 | None documented
HI aku boat, pole and line | 54 | None documented
HI deep sea bottomfish | 434 | Hawaiian monk seal*+
Hi inshore handline | 650 | Bottlenose dolphin, HI
HI tuna | 144 | Rough-toothed dolphin, HI Bottlenose dolphin, HI Hawaiian monk seal*+
WA groundfish, bottomfish jig | 679 | None documented
HARPOON FISHERIES: |  |
CA swordfish harpoon | 228 | None documented
POUND NET/WEIR FISHERIES: |  |
AK herring spawn on kelp pound net | 452 | None documented
AK Southeast herring roe/food/bait pound net | 3 | None documented
WA herring brush weir | 1 | None documented
BAIT PENS: |  |
WA/OR/CA bait pens | 13 | None documented
DREDGE FISHERIES: |  |
Coastwide scallop dredge | 108 (12 AK) | None documented
DIVE, HAND/MECHANICAL COLLECTION FISHERIES: |  |
AK abalone | 1 | None documented
AK clam | 156 | None documented
WA herring spawn on kelp | 4 | None documented
AK dungeness crab | 3 | None documented
AK herring spawn on kelp | 363 | None documented
AK urchin and other fish/shellfish | 471 | None documented
CA abalone | 111 | None documented
CA sea urchin | 583 | None documented
HI coral diving | 2 | None documented
HI fish pond | 10 | None documented
HI handpick | 135 | None documented
HI lobster diving | 6 | None documented
HI squiding, spear | 267 | None documented
WA, CA kelp | 4 | None documented
WA/OR sea urchin, other clam, octopus, oyster, sea cucumber, scallop, ghost shrimp hand, dive, or mechanical collection | 637 | None documented
WA shellfish aquaculture | 684 | None documented
COMMERCIAL PASSENGER FISHING VESSEL (CHARTER BOAT) FISHERIES: |  |
AK, WA, OR, CA commercial passenger fishing vessel | >7,000 (1,107 AK) | None documented
HI “other” | 114 | None documented
LIVE FINFISH/SHELLFISH FISHERIES: |  |
CA finfish and shellfish live trap/hook-and-line | 93 | None documented
* Marine mammal stock is strategic.
+ stock is listed as threatened or endangered under the Endangered Species Act (ESA) or as depleted under the MMPA. List of Abbreviations Used in Table 1: AK, Alaska; CA , California; HI, Hawaii; GOA, Gulf of Alaska; OR, Oregon, and WA, Washington

Table 2—List of Fisheries Commercial Fisheries in the Atlantic Ocean, Gulf of Mexico, and Caribbean
Fishery Description | Estimated # of vessels/persons | Marine mammal species and stocks incidentally injured and killed
Category I
GILLNET FISHERIES: |  |
Northeast sink gillnet | 341 | North Atlantic right whale, WNA*+ Humpback whale, WNA*+ Minke whale, Canadian east coast Killer whale, WNA White-sided dolphin, WNA* Bottlenose dolphin, WNA offshore Harbor porpoise, GME/BF* Harbor seal, WNA Gray seal, WNA Common dolphin, WNA * Fin whale, WNA *+ Spotted dolphin, WNA False killer whale, WNA Harp seal, WNA
LONGLINE FISHERIES: |  |
Atlantic Ocean, Caribbean, Gulf of Mexico large pelagics longline | <200 | Humpback whale, WNA*+ Minke whale, Canadian east coast Risso's dolphin, WNA Long-finned pilot whale, WNA* Short-finned pilot whale, WNA* Common dolphin, WNA* Atlantic spotted dolphin, WNA* Pantropical spotted dolphin, WNA* Striped dolphin, WNA Bottlenose dolphin, WNA offshore Bottlenose dolphin, GMX Outer Continental Shelf Bottlenose dolphin, GMX Continental Shelf Edge and Slope Atlantic spotted dolphin, Northern GMX Pantropical spotted dolphin, Northern GMX Risso's dolphin, Northern GMX Harbor porpoise, GME/BF*
TRAP/POT FISHERIES: |  |
Northeast/Mid-Atlantic American lobster trap/pot | 13,000 | North Atlantic right whale, WNA*+ Humpback whale, WNA*+ Fin whale, WNA*+ Minke whale, Canadian east coast Harbor seal, WNA
TRAWL FISHERIES: |  |
Atlantic squid, mackerel, butterfish trawl | 620 | Common dolphin, WNA* Risso's dolphin, WNA Long-finned pilot whale, WNA* Short-finned pilot whale, WNA* White-sided dolphin, WNA*
Category II
GILLNET FISHERIES: |  |
North Carolina inshore gillnet | 94 | Bottlenose dolphin, WNA coastal*+
Northeast anchored float gillnet | 133 | Humpback whale, WNA*+ White-sided dolphin, WNA* Harbor seal, WNA
Northeast drift gillnet | unknown | None documented
Southeast Atlantic gillnet | 779 | Bottlenose dolphin, WNA coastal
Southeastern U.S. Atlantic shark gillnet | 12 | Bottlenose dolphin, WNA coastal* North Atlantic right whale, WNA*+ Atlantic spotted dolphin, WNA
U.S. Mid-Atlantic coastal gillnet | >655 | Humpback whale, WNA*+ Minke whale, Canadian east coast Bottlenose dolphin, WNA offshore Bottlenose dolphin, WNA coastal*+ Harbor porpoise, GME/BF* Harbor seal, WNA Harp seal, WNA Long-finned pilot whale, WNA* Short-finned pilot whale, WNA* White sided dolphin, WNA Common dolphin, WNA
TRAWL FISHERIES: |  |
Atlantic herring midwater trawl (including pair trawl) | 17 | Harbor seal, WNA
TRAP/POT FISHERIES: |  |
Atlantic blue crab trap/pot | >16,000 | Bottlenose dolphin, WNA coastal* West Indian manatee, FL
Northeast trap/pot | unknown | Fin whale, WNA
PURSE SEINE FISHERIES: |  |
Gulf of Mexico menhaden purse seine | 50 | Bottlenose dolphin, Western GMX coastal Bottlenose dolphin, Northern GMX coastal
HAUL/BEACH SEINE FISHERIES: |  |
Mid-Atlantic haul/beach seine | 25 | Bottlenose dolphin, WNA coastal* Harbor porpoise, GME/BF*
North Carolina long haul seine | 33 | Bottlenose dolphin, WNA coastal*
STOP NET FISHERIES: |  |
North Carolina roe mullet stop net | 13 | Bottlenose dolphin, WNA coastal*
POUND NET FISHERIES: |  |
Virginia pound net | 187 | Bottlenose dolphin, WNA coastal*
Category III
GILLNET FISHERIES: |  |
Caribbean gillnet | >991 | Dwarf sperm whale, WNA West Indian manatee, Antillean
Chesapeake Bay inshore gillnet | 45 | Harbor porpoise, GME/BF
Delaware Bay inshore gillnet | 60 | Humpback whale, WNA*+ Bottlenose dolphin, WNA coastal*+ Harbor porpoise, GME/BF*
Gulf of Mexico gillnet | 724 | Bottlenose dolphin, Western GMX coastal Bottlenose dolphin, Northern GMX coastal Bottlenose dolphin, Eastern GMX coastal Bottlenose dolphin, GMX Bay, Sound, and Estuarine*
Long Island Sound inshore gillnet | 20 | Humpback whale, WNA*+ Bottlenose dolphin, WNA coastal*+ Harbor porpoise, GME/BF*
Rhode Island, southern Massachusetts (to Monomoy Island), and New York Bight (Raritan and Lower New York Bays) inshore gillnet | 32 | Humpback whale, WNA*+ Bottlenose dolphin, WNA coastal*+ Harbor porpoise, GME/BF*
TRAWL FISHERIES: |  |
Calico scallops trawl | 12 | None documented
Crab trawl | 400 | None documented
Georgia, South Carolina, Maryland whelk trawl | 25 | None documented
Gulf of Maine, Mid-Atlantic sea scallop trawl | 215 | None documented
Gulf of Maine northern shrimp trawl | 320 | None documented
Gulf of Mexico butterfish trawl | 2 | Atlantic spotted dolphin, Eastern GMX Pantropical spotted dolphin, Eastern GMX
Gulf of Mexico mixed species trawl | 20 | None documented
Mid-Atlantic mixed species trawl | >1,000 | None documented
North Atlantic bottom trawl | 1,052 | Long-finned pilot whale, WNA* Short-finned pilot whale, WNA* Common dolphin, WNA* White-sided dolphin, WNA* Striped dolphin, WNA Bottlenose dolphin, WNA offshore
Southeastern U.S. Atlantic, Gulf of Mexico shrimp trawl | >18,000 | Bottlenose dolphin, WNA coastal*+
U.S. Atlantic monkfish trawl | unknown | Common dolphin, WNA*
MARINE AQUACULTURE FISHERIES: |  |
Finfish aquaculture | 48 | Harbor seal, WNA
Shellfish aquaculture | unknown | None documented
PURSE SEINE FISHERIES: |  |
Gulf of Maine Atlantic herring purse seine | 30 | Harbor porpoise, GME/BF* Harbor seal, WNA Gray seal, WNA
Gulf of Maine menhaden purse seine | 50 | None documented
Florida west coast sardine purse seine | 10 | Bottlenose dolphin, Eastern GMX coastal
Mid-Atlantic menhaden purse seine | 22 | Bottlenose dolphin, WNA coastal*+ Humpback whale, WNA*+
U.S. Atlantic tuna purse seine | unknown | None documented
U.S. Mid-Atlantic hand seine | >250 | None documented
LONGLINE/HOOK-AND-LINE FISHERIES: |  |
Gulf of Maine tub trawl groundfish bottom longline/ hook-and-line | 46 | Harbor seal, WNA Gray seal, Northwest North Atlantic Humpback whale, WNA
Gulf of Maine, U.S. Mid-Atlantic tuna, shark swordfish hook-and-line/harpoon | 26,223 | Humpback whale, WNA
Southeastern U.S. Atlantic, Gulf of Mexico, and Caribbean snapper-grouper and other reef fish bottom longline/hook-and-line | >5,000 | None documented
Southeastern U.S. Atlantic, Gulf of Mexico shark bottom longline/hook-and-line | 124 | None documented
Southeastern U.S. Atlantic, Gulf of Mexico, U.S. Mid-Atlantic pelagic hook-and-line/harpoon | 1,446 | None documented
TRAP/POT FISHERIES |  |
Caribbean mixed species trap/pot | >501 | None documented
Caribbean spiny lobster trap/pot | >197 | None documented
Florida spiny lobster trap/pot | 2,145 | Bottlenose dolphin, Eastern Gulf of Mexico coastal
Gulf of Mexico blue crab trap/pot | 4,113 | Bottlenose dolphin, Western GMX coastal Bottlenose dolphin, Northern GMX coastal Bottlenose dolphin, Eastern GMX coastal Bottlenose dolphin, GMX Bay, Sound, & Estuarine* West Indian manatee, FL*+
Gulf of Mexico mixed species trap/pot | unknown | None documented
Mid-Atlantic mixed species trap/pot | unknown | Humpback whale, Gulf of Maine Minke whale, Canadian east coast Harbor porpoise, GM/BF
Southeastern U.S. Atlantic, Gulf of Mexico golden crab trap/pot | 10 | None documented
Southeastern U.S. Atlantic, Gulf of Mexico stone crab trap/pot | 4,453 | None documented
U.S. Mid-Atlantic eel trap/pot | >700 | None documented
U.S. Mid-Atlantic and Southeast U.S. Atlantic black sea bass trap/pot | 30 | None documented
STOP SEINE/WEIR/POUND NET FISHERIES: |  |
Gulf of Maine herring and Atlantic mackerel stop seine/weir | 50 | North Atlantic right whale, WNA* Humpback whale, WNA*+ Minke whale, Canadian east coast Harbor porpoise, GME/BF* Harbor seal, WNA Gray seal, Northwest North Atlantic
U.S. Mid-Atlantic crab stop seine/weir | 2,600 | None documented
U.S. Mid-Atlantic mixed species stop seine/weir/ pound net (except the North Carolina roe mullet stop net) | 751 | None documented
DREDGE FISHERIES: |  |
Gulf of Maine mussel | >50 | None documented
Gulf of Maine, U.S. Mid-Atlantic sea scallop dredge | 233 | None documented
U.S. Mid-Atlantic/Gulf of Mexico oyster | 7,000 | None documented
U.S. Mid-Atlantic offshore surf clam and quahog dredge | 100 | None documented
HAUL/BEACH SEINE FISHERIES: |  |
Caribbean haul/beach seine | 15 | West Indian manatee, Antillean
Gulf of Mexico haul/beach seine | unknown | None documented
Southeastern U.S. Atlantic, haul/beach seine | 25 | None documented
DIVE, HAND/MECHANICAL COLLECTION FISHERIES: |  |
Atlantic Ocean, Gulf of Mexico, Caribbean shellfish dive, hand/mechanical collection | 20,000 | None documented
Gulf of Maine urchin dive, hand/mechanical collection | >50 | None documented
Gulf of Mexico, Southeast Atlantic, Mid-Atlantic, and Caribbean cast net | unknown | None documented
COMMERCIAL PASSENGER FISHING VESSEL (CHARTER BOAT) FISHERIES: |  |
Atlantic Ocean, Gulf of Mexico, Caribbean commercial passenger fishing vessel | 4,000 | None documented
* Marine mammal stock is strategic.
+ Stock is listed as threatened or endangered under the ESA or as depleted under the MMPA. List of Abbreviations Used in Table 2 FL - Florida;GA - Georgia; GME/BF - Gulf of Maine/Bay of Fundy; GMX - Gulf of Mexico; NC - North Carolina; SC - South Carolina; TX - Texas; WNA - Western North Atlantic

Dated: January 10, 2002.
Samuel W. Mckeen,
Acting Assistant Administrator, national Marine Fisheries Service.

[FR Doc. 02-1275 Filed 1-16-02; 8:45 am]

BILLING CODE 3510-22-S